DEPARTMENT OF ENERGY

Federal Energy Regulatory Commission

Combined Notice of Filings #1

Take notice that the Commission received the following electric rate filings:

Docket Numbers: ER13-37-003.

Applicants: Midcontinent Independent System Operator, Inc.

Description: Midcontinent Independent System Operator, Inc. submits tariff filing per 35: 05-03-2013 Schedule 43 Escanaba Compliance to be effective 6/15/2012.

Filed Date: 5/3/13.

Accession Number: 20130503-5137.

Comments Due: 5 p.m. ET 5/24/13.

Docket Numbers: ER13-38-002.

Applicants: Midcontinent Independent System Operator, Inc.

Description: Midcontinent Independent System Operator, Inc. submits tariff filing per 35: 05-03-2013 SA 6500 Escanaba-MISO SSR Compliance to be effective 6/15/2012.

Filed Date: 5/3/13.

Accession Number: 20130503-5136.

Comments Due: 5 p.m. ET 5/24/13.

Docket Numbers: ER13-311-001.

Applicants: MP2 Energy IL LLC.

Description: Compliance Filing to be effective 4/29/2013.

File Date: 5/3/13.

Accession Number: 20130503-5092.

Comments Due: 5 p.m. ET 5/24/13.

Docket Numbers: ER13-868-001.

Applicants: Midcontinent Independent System Operator, Inc.

Description: 2013-05-02 Module E-2 Compliance to be effective 4/3/2013.

Filed Date: 5/2/13.

Accession Number: 20130502-5130.

Comments Due: 5 p.m. ET 5/23/13.

Docket Numbers: ER13-1414-000.

Applicants: ITC Midwest LLC.

Description: Filing of CIAC Agreement of ITC Midwest to be effective 7/2/2013.

Filed Date: 5/2/13.

Accession Number: 20130502-5083.

Comments Due: 5 p.m. ET 5/23/13.

Docket Numbers: ER13-1415-000.

Applicants: El Paso Electric Company.

Description: Concurrence of EPE to APS Service Agreement No. 193, Amendment 2 to be effective 2/28/2013.

Filed Date: 5/2/13.

Accession Number: 20130502-5135.

Comments Due: 5 p.m. ET 5/23/13.

Docket Numbers: ER13-1416-000.

Applicants: Midcontinent Independent System Operator, Inc.

Description: 2013-05-03 SA 2519 NIPSCO-Duke IA to be effective 4/5/2013.

Filed Date: 5/3/13.

Accession Number: 20130503-5013.

Comments Due: 5 p.m. ET 5/24/13.

Docket Numbers: ER13-1417-000.

Applicants: Niagara Mohawk Power Corporation.

Description: Notice of Cancellation of Engineering, Permitting and Construction Services Agreement with Luther Forest Technology Campus Economic Development Corporation of Niagara Mohawk Power Corporation ER13-1417.

Filed Date: 5/2/13.

Accession Number: 20130502-5149.

Comments Due: 5 p.m. ET 5/23/13.

Docket Numbers: ER13-1418-000.

Applicants: Niagara Mohawk Power Corporation.

Description: Notice of Cancellation of Agreement for Substation Services with Nine Mile Point Nuclear Station LLC of Niagara Mohawk Power Corporation.

Filed Date: 5/2/13.

Accession Number: 20130502-5150.

Comments Due: 5 p.m. ET 5/23/13.

Docket Numbers: ER13-1419-000.

Applicants: ExxonMobil Baton Rouge Complex.

Description: Refile tariff title change to be effective 5/4/2013.

Filed Date: 5/3/13.

Accession Number: 20130503-5076.

Comments Due: 5 p.m. ET 5/24/13.

Docket Numbers: ER13-1420-000.

Applicants: MP2 Energy NE LLC.

Description: Compliance Filing to be effective 5/4/2013.

Filed Date: 5/3/13.

Accession Number: 20130503-5091.

Comments Due: 5 p.m. ET 5/24/13.

Docket Numbers: ER13-1421-000.

Applicants: Llano Estacado Wind, LLC.

Description: Updated MBRT 5-3-2013 to be effective 5/4/2013.

Filed Date: 5/3/13.

Accession Number: 20130503-5096.

Comments Due: 5 p.m. ET 5/24/13.

Docket Numbers: ER13-1422-000.

Applicants: Ebensburg Power Company.

Description: Ebensburg Power Company submits tariff filing per 35.12: Initial Tariff Baseline to be effective 5/12/2013.

Filed Date: 5/3/13.

Accession Number: 20130503-5135.

Comments Due: 5 p.m. ET 5/24/13.

Docket Numbers: ER13-1423-000.

Applicants: Massachusetts Electric Company.

Description: Massachusetts Electric Company submits tariff filing per 35.13(a)(2)(iii: Interconnection Agreement Between Massachusetts Elec Co. and Energy Thorndike to be effective 7/3/2013.

Filed Date: 5/3/13.

Accession Number: 20130503-5138.

Comments Due: 5 p.m. ET 5/24/13.

Docket Numbers: ER13-1424-000.

Applicants: New York Independent System Operator, Inc., PJM Interconnection, L.L.C.

Description: Joint Waiver Request to Change Scheduled Interchange Expected on Ramapo PAR of New York Independent System Operator, Inc. and PJM Interconnection, L.L.C.

Filed Date: 5/3/13.

Accession Number: 20130503-5162.

Comments Due: 5 p.m. ET 5/10/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 6, 2013.
Kimberly D. Bose,
Secretary.

[FR Doc. 2013-11279 Filed 5-10-13; 8:45 am]

BILLING CODE 6717-01-P